FEDERAL HOUSING FINANCE BOARD

[No. 2000-N-3]

Federal Home Loan Bank Members Selected for Community Support Review

AGENCY: Federal Housing Finance Board.

ACTION: Notice.

SUMMARY: The Federal Housing Finance Board (Finance Board) is announcing the Federal Home Loan Bank (Bank) members it has selected for the 2000-01 first quarter review cycle under the Finance Board's community support requirements regulation. This notice also prescribes the deadline by which Bank members selected for review must submit Community Support Statements to the Finance Board.

DATES: Bank members selected for the 2000-01 first quarter review cycle under the Finance Board's community support requirement regulation must submit completed Community Support Statements to the Finance Board on or before May 29, 2000.

ADDRESSES: Bank members selected for the 2000-01 first quarter review cycle under the Finance Board's community support requirements regulation must submit completed Community Support Statements to the Finance Board either by regular mail at the Office of Policy, Research and Analysis, Program Assistance Division, Federal Housing Finance Board, 1777 F Street, N.W., Washington, D.C. 20006, or by electronic mail at FITZGERALDE@FHFB.GOV.

FOR FURTHER INFORMATION CONTACT: Emma J. Fitzgerald, Program Analyst, Office of Policy, Research and Analysis, Program Assistance Division, by telephone at 202/408-2874, by electronic mail at FITZGERALDE@FHFB.GOV, or by regular mail at the Federal Housing Finance Board, 1777 F Street, N.W., Washington, D.C. 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 29, 2000 deadline prescribed in this notice. 12 CFR 944.2(b)(1)(ii) and (c). On or before April 28, 2000, each Bank will notify the members in its district that have been selected for the 2000-01 first quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2000-01 first quarter community support review cycle:

Federal Home Loan Bank of Boston—District 1

Name/City/State

The Canaan National Bank, Canaan, Connecticut

Advest Bank and Trust Company, Hartford, Connecticut

Litchfield Bancorp, Litchfield, Connecticut

The Milford Bank, Milford, Connecticut

New Milford Savings Bank, New Milford, Connecticut

Prime Bank, Orange, Connecticut

National Iron Bank, Salisbury, Connecticut

First National Bank of Suffield, Suffield, Connecticut

Savings Institute, Willimantic, Connecticut

Mechanics Savings Bank, Auburn, Maine

Pepperell Trust Company, Biddeford, Maine

Oxford Federal Credit Union, Oxford, Maine

Adams Co-operative Bank, Adams, Massachusetts

Beverly Co-op, Beverly, Massachusetts

Wainwright Bank and Trust Company, Boston, Massachusetts

Capital Crossing, Boston, Massachusetts

East Boston Savings Bank, Boston, Massachusetts

Brookline Cooperative Bank, Brookline, Massachusetts

Chelsea-Provident Co-operative Bank, Chelsea, Massachusetts

Massachusetts Co-operative Bank, Dorchester, Massachusetts

East Bridgewater Savings Bank, East Bridgewater, Massachusetts

Fall River Five Cents Savings Bank, Fall River, Massachusetts

Cape Cod Five Cents Savings Bank, Harwich Port, Massachusetts

Charter Bank, a Cooperative Bank, Hyannis, Massachusetts

Cape Cod Bank and Trust Company, Hyannis, Massachusetts

The First National Bank of Ipswich, Ipswich, Massachusetts

Marlborough Co-operative Bank, Marlborough, Massachusetts

Century Bank and Trust Company, Medford, Massachusetts

Needham Co-operative Bank, Needham, Massachusetts

Hoosac Bank, North Adams, Massachusetts

North Brookfield Savings Bank, North Brookfield, Massachusetts

Easton Cooperative Bank, North Easton, Massachusetts

Rockland Trust Company, Rockland, Massachusetts

Park West Bank and Trust Company, West Springfield, Massachusetts

UniBank for Savings, Whitinsville, Massachusetts

Williamstown Savings Bank, Williamstown, Massachusetts

First Massachusetts Bank, N.A., Worcester, Massachusetts

Community Guaranty Savings Bank, Plymouth, New Hampshire

Community Bank and Trust Company, Wolfeboro, New Hampshire

St. Mary's Bank, Manchester, New Hampshire

Coventry Credit Union, Coventry, Rhode Island

Domestic Bank, Cranston, Rhode Island

Bank Rhode Island, East Providence, Rhode Island

Home Loan and Investment Bank, FSB, Warwick, Rhode Island

Randolph National Bank, Randolph, Vermont

Citizens Savings Bank and Trust Company, St. Johnsbury, Vermont

Federal Home Loan Bank of New York—District 2

Name/City/State

United National Bank, Bridgewater, New Jersey

Morgan Stanley Dean Witter Trust FSB, Jersey City, New Jersey

Provident Savings Bank, Jersey City, New Jersey

Hudson United Bank, Mahwah, New Jersey

Atlantic Stewardship Bank, Midland Park, New Jersey

First Morris Bank, Morris Township, New Jersey

City National Bank of New Jersey, Newark, New Jersey

Bergen Commercial Bank, Paramus, New Jersey

Phillipsburg National Bank, Phillipsburg, New Jersey

Mon-Oc Federal Credit Union, Toms River, New Jersey

Yardville National Bank, Trenton, New Jersey

First Washington State Bank, Windsor, New Jersey

Bank of Gloucester County, Woodbury, New Jersey

The Canandaigua National Bank & Trust Co., Canandaigua, New York

Country Bank, Carmel, New York

Chemung Canal Trust Company, Elmira, New York

Queens County Savings Bank, Flushing, New York

National Bank of New York City, Flushing, New York

The Hudson River Bank & Trust Company, Hudson, New York

Long Island Commercial Bank, Islandia, New York

Rondout Savings Bank Kingston New York

First Niagara Bank, Lockport, New York

Citizens National Bank of Malone, Malone, New York

State Bank of Long Island, New Hyde Park, New York

Eastbank, N.A., New York, New York

PathFinder Bank, Oswego, New York

The Pavilion State Bank, Pavilion, New York

Rhinebeck Savings Bank, Rhinebeck, New York

Tioga State Bank, Spencer, New York

Tupper Lake National Bank, Tupper Lake, New York

The Warwick Savings Bank, Warwick, New York

Banco Santander Puerto Rico, San Juan, Puerto Rico

Federal Home Loan Bank of Pittsburgh—District 3

Name/City/State

County Bank, Rehoboth Beach, Delaware

Chelten Hills Savings Association, Abington, Pennsylvania

Kishacoquillas Valley National Bank, Belleville, Pennsylvania

Summit Bank, Bethlehem, Pennsylvania

County National Bank, Clearfield, Pennsylvania

Citizens Trust Company, Coudersport, Pennsylvania

Downington National Bank, Downington, Pennsylvania

Farmers National Bank of Emlenton, Emlenton, Pennsylvania

First American National Bank of Pennsylvania, Everett, Pennsylvania

Southwest National Bank of Pennsylvania, Greensburg, Pennsylvania

Harleysville Savings Bank, Harleysville, Pennsylvania

First National Bank of Herminie, Herminie, Pennsylvania

First National Bank of Pennsylvania, Hermitage, Pennsylvania

Hollidaysburg Trust Company, Hollidaysburg, Pennsylvania

Wayne Bank, Honesdale, Pennsylvania

The Honesdale National Bank, Honesdale, Pennsylvania

Penn Central National Bank, Huntingdon, Pennsylvania

Laurel Bank, Johnstown, Pennsylvania

United States National Bank in Johnstown, Johnstown, Pennsylvania

Lebanon Valley Farmers Bank, Lebanon, Pennsylvania

Luzerne National Bank, Luzerne, Pennsylvania

Marion Center National Bank, Marion Center, Pennsylvania

Second National Bank of Masontown, Masontown, Pennsylvania

Old Forge Bank, Old Forge, Pennsylvania

Rossini Savings Association, Philadelphia, Pennsylvania

Chestnut Street Building and Loan Assn., Philadelphia, Pennsylvania

Northwood Savings Association, Philadelphia, Pennsylvania

Cammar Building and Loan Association, Pittsburgh, Pennsylvania

First National Bank of Port Allegany, Port Allegany, Pennsylvania

Great Valley Bank, Reading, Pennsylvania

Community First Bank, N.A., Reynoldsville, Pennsylvania

Farmers Building and Savings Bank, Rochester, Pennsylvania

Hamlin Bank and Trust Company, Smethport, Pennsylvania

Eagle National Bank, Upper Darby, Pennsylvania

Bruceton Bank, Bruceton Mills, West Virginia

Mountain Valley Bank, N.A., Elkins, West Virginia

Calhoun County Bank, Inc., Grantsville, West Virginia

One Valley Bank of Huntington, Huntington, West Virginia

The Harrison County Bank, Lost Creek, West Virginia

One Valley Bank-East, N.A., Martinsburg, West Virginia

South Branch Valley National Bank, Moorefield, West Virginia

The Grant County Bank, Petersburg, West Virginia

Union Bank of Tyler County, Sistersville, West Virginia

First National Bank, St. Marys, West Virginia

The Terra Alta Bank, Terra Alta, West Virginia

Wheeling National Bank, Wheeling, West Virginia

Matewan National Bank, Williamson, West Virginia

Federal Home Loan Bank of Atlanta—District 4

Name/City/State

First National—America's Bank, Sylacauga, Alabama

Bank of Tuscaloosa, Tuscaloosa, Alabama

Citizens Bank of Winfield, Winfield, Alabama

The Adams National Bank, Washington, District of Columbia

Fleet Bank, F.S.B., Boca Raton, Florida

First National Bank of Manatee, Bradenton, Florida

American Bank, Bradenton, Florida

The Hernando County Bank, Brooksville, Florida

Drummond Community Bank, Chiefland, Florida

Crystal River Bank, Crystal River, Florida

First National Bank of Pasco, Dade City, Florida

BankFIRST, Eustis, Florida

Community Bank of Homestead, Homestead, Florida

First National Bank of Homestead, Homestead, Florida

Marine National Bank of Jacksonville, Inc., Jacksonville, Florida

First National Bank of the Florida Keys, Marathon, Florida

Marine Bank of the Florida Keys, Marathon, Florida

Fidelity Bank of Florida, Merritt Island, Florida

Coconut Grove Bank, Miami, Florida

Peoples National Bank of Commerce, Miami, Florida

The International Bank of Miami, N.A., Miami, Florida

Fifth Third Bank of Florida, Naples, Florida

Peoples National Bank of Niceville, Niceville, Florida

Security Bank, N.A., North Lauderdale, Florida

Independent National Bank, Ocala, Florida

Friendship Community Bank, Ocala, Florida

Enterprise National Bank of Palm Beach, Palm Beach Gardens, Florida

First State Bank, Sarasota, Florida

First National Bank of Florida, Seminole, Florida

Prosperity Bank of St. Augustine, St. Augustine, Florida

Republic Bank, St. Petersburg, Florida

United Bank and Trust Company, St. Petersburg, Florida

Guaranty National Bank, Tallahassee, Florida

Premier Bank, Tallahassee, Florida

Tri-County Bank, Trenton, Florida

First National Bank of Wauchula, Wauchula, Florida

Adel Banking, Company, Adel, Georgia

First National Bank of Alma, Alma, Georgia

Alma Exchange Bank and Trust, Alma, Georgia

Net.B@nk, Alpharetta, Georgia

Citizens Bank of Americus, Americus, Georgia

Athens First Bank and Trust Company, Athens, Georgia

Fidelity National Bank, Atlanta, Georgia

The Bankers Bank, Atlanta, Georgia

First Community Bank of Southwest Georgia, Bainbridge, Georgia

Cairo Banking Company, Cairo, Georgia

Georgia Bank and Trust, Calhoun, Georgia

Bank of Canton, Canton, Georgia

Community First Bank, Carrollton, Georgia

The Brown Bank, Cobbtown, Georgia

Community Bank and Trust—Jackson, Commerce, Georgia

First National Bank of Commerce, Commerce, Georgia

Cordele Banking Company, Cordele, Georgia

Community Bank and Trust-Habersham, Cornelia, Georgia

Hardwick Bank and Trust Company, Dalton, Georgia

Merchants and Farmers Bank, Donalsonville, Georgia

Bank of Dudley, Dudley, Georgia

Citizens Bank and Trust Company, Eastman, Georgia

Bank of Ellaville, Ellaville, Georgia

Fairburn Banking Company, Fairburn, Georgia

First Citizens Bank of Fayette County, Fayetteville, Georgia

First National Bank of Griffin, Griffin, Georgia

The Citizens Bank, Hogansville, Georgia

McIntosh State Bank, Jackson, Georgia

First National Bank and Trust Company, Louisville, Georgia

Bank of Madison, Madison, Georgia

Exchange Bank, Milledgeville, Georgia

Bank of Monticello, Monticello, Georgia

American Banking Company, Moultrie, Georgia

First Citizens Bank, Newnan, Georgia

Bank of Quitman, Quitman, Georgia

The Tattnall Bank, Reidsville, Georgia

Bryan Bank and Trust, Richmond Hill, Georgia

Northwest Georgia Bank, Ringgold, Georgia

Rossville Bank, Rossville, Georgia

West Central Georgia Bank, Thomaston, Georgia

First National Bank of Cherokee, Woodstock, Georgia

First National Bank of Maryland, Baltimore, Maryland

Midstate Federal Savings and Loan Association, Baltimore, Maryland

Carrollton Bank, Baltimore, Maryland

Rushmore Trust and Savings, F.S.B., Bethesda, Maryland

Glen Burnie Mutual Savings Bank, Glen Burnie, Maryland

Hebron Savings Bank, Hebron, Maryland

First Financial of Maryland Federal, Lutherville-Timonium, Maryland

Regal Savings Bank, F.S.B., Owings Mills, Maryland

Provident State Bank, Preston, Maryland

Queenstown Bank of Maryland, Queenstown, Maryland

Wilmington Trust FSB, Salisbury, Maryland

Blue Ridge Savings Bank, Inc., Asheville, North Carolina

The Morris Plan Industrial Bank, Burlington, North Carolina

Park Meridian Bank, Charlotte, North Carolina

Yadkin Valley Bank and Trust Company, Elkin, North Carolina

Fidelity Bank, Fuquay-Varina, North Carolina

Bank of Granite, Granite Falls, North Carolina

Peoples Bank, Newton, North Carolina

First National Bank of Reidsville, Reidsville, North Carolina

First Western, Spruce Pine, North Carolina

Wake Forest FS&LA, Wake Forest, North Carolina

First FS&LA of Charleston, Charleston, South Carolina

First Piedmont Federal Savings and Loan, Gaffney, South Carolina

American Federal Bank, FSB, Greenville, South Carolina

Horry County State Bank, Loris, South Carolina

Orangeburg National Bank, Orangeburg, South Carolina

Carolina Southern Bank, Spartanburg, South Carolina

AmSouth, Bristol, Virginia

The Bank of Franklin, Franklin, Virginia

Old Point National Bank of Phoebus, Hampton, Virginia

Chesapeake Bank, Kilmarnock, Virginia

Salem Bank and Trust, N.A., Salem, Virginia

Community Bank of Northern Virginia, Sterling, Virginia

Citizens and Farmers Bank, West Point, Virginia

Federal Home Loan Bank of Cincinnati—District 5

Name/City/State

Bank of Clinton County, Albany, Kentucky

Citizens Deposit Bank, Arlington, Kentucky

Classic Bank, Ashland, Kentucky

Peoples Bank of Madison County, Berea, Kentucky

Citizens Bank, Brodhead, Kentucky

Deposit Bank of Carlisle, Carlisle, Kentucky

Peoples State Bank, Chaplin, Kentucky

Tri-County National Bank, Corbin, Kentucky

Farmers National Bank, Danville, Kentucky

Dixon Bank, Dixon, Kentucky

First Citizens Bank, Elizabethtown, Kentucky

Farmers Bank and Capital Trust Company, Frankfort, Kentucky

Franklin Bank and Trust Company, Franklin, Kentucky

Georgetown Bank and Trust Company, Georgetown, Kentucky

First National Bank & Trust Company, Georgetown, Kentucky

Farmers Bank & Trust Company, Georgetown, Kentucky

Peoples Bank and Trust Company, Greensburg, Kentucky

The Peoples State Bank, Hodgenville, Kentucky

United Southern Bank, Hopkinsville, Kentucky

Kentucky Banking Centers, Inc., Horse Cave, Kentucky

Republic Bank and Trust Company, Louisville, Kentucky

The First National Bank of Mayfield, Mayfield, Kentucky

Jackson County Bank, McKee, Kentucky

Farmers Bank of Milton, Milton, Kentucky

Morehead National Bank, Morehead, Kentucky

Morganfield National Bank, Morganfield, Kentucky

Peoples Bank and Trust Company, Owenton, Kentucky

First National Bank of Paintsville, Paintsville, Kentucky

Citizens Bank, Sharpsburg, Kentucky

Springfield State Bank, Springfield, Kentucky

Powell County Bank, Stanton, Kentucky

First Kentucky Bank, Sturgis, Kentucky

Peoples Bank of Tompkinsville, Tompkinsville, Kentucky

Citizens Deposit Bank and Trust, Vanceburg, Kentucky

The Bank of Whitesburg, Whitesburg, Kentucky

Peoples Commercial Bank, Winchester, Kentucky

The Apple Creek Banking Company, Apple Creek, Ohio

First National Bank, Bellevue, Ohio

Community First Bank and Trust, Celina, Ohio

Park View Federal Savings Bank, Cleveland, Ohio

The Clyde Savings Bank Company, Clyde. Ohio

The Cortland Savings and Banking Company, Cortland, Ohio

The Community Bank, Crooksville, Ohio

Dover-Phila Federal Credit Union, Dover, Ohio

First Federal Savings Bank of Dover, Dover, Ohio

First National Community Bank, East Liverpool, Ohio

Peoples Bank of Gambier, Gambier, Ohio

The Genoa Banking Company, Genoa, Ohio

The Glouster Community Bank, Glouster, Ohio

The Richland Trust Company, Mansfield, Ohio

The Metamora State Bank, Metamora, Ohio

Consumers National Bank, Minerva, Ohio

The Henry County Bank, Napoleon, Ohio

Home FS&LA of Niles, Niles, Ohio

Osgood State Bank, Osgood, Ohio

The Sabina Bank, Sabina, Ohio

Somerville National Bank, Somerville, Ohio

Champaign National Bank, and Trust Urbana, Ohio

First National Bank of Zanesville, Zanesville, Ohio

Bank of Cleveland, Cleveland, Tennessee

First Farmers and Merchants National Bank, Columbia, Tennessee

Citizens Tri-County Bank, Dunlap, Tennessee

Citizens Bank, Elizabethton, Tennessee

Erwin National Bank, Erwin, Tennessee

Andrew Johnson Bank, Greeneville, Tennessee

First Vantage Bank, Knoxville, Tennessee

City State Bank, Martin, Tennessee

Union Planters Bank of the Lakeway Area, Morristown, Tennessee

Bank of Nashville, Nashville, Tennessee

Capital Bank and Trust Company, Nashville, Tennessee

The Oakland Deposit Bank, Oakland, Tennessee

Farmers Bank, Parsons, Tennessee

First National Bank, Pulaski, Tennessee

First Claiborne Bank, Tazewell, Tennessee

Federal Home Loan Bank of Indianapolis—District 6

Name/City/State

Community State Bank, Avilla, Indiana

Bath State Bank, Bath, Indiana

First Bank of Berne, Berne, Indiana

Bippus State Bank, Bippus, Indiana

Monroe County Bank, Bloomington, Indiana

Farmers and Merchants Bank, Boswell, Indiana

Farmers State Bank, Brookston, Indiana

People's Trust Company, Brookville, Indiana

Irwin Union Bank and Trust Company, Columbus, Indiana

Fountain Trust Company, Covington, Indiana

DeMotte State Bank, DeMotte, Indiana

Peoples State Bank of Ellettsville, Ellettsville, Indiana

National City Bank of Evansville, Evansville, Indiana

Bank of Geneva, Geneva, Indiana

Mercantile National Bank of Indiana, Hammond, Indiana

Meridian Mutual Insurance Company, Indianapolis, Indiana

National City Bank of Indiana, Indianapolis, Indiana

Salin Bank and Trust Company, Indianapolis, Indiana

The National Bank of Indianapolis, Indianapolis, Indiana

Kentland Federal Savings and Loan Association, Kentland, Indiana

Farmers State Bank, Lanesville, Indiana

American State Bank, Lawrenceburg, Indiana

Peoples Trust Company, Linton, Indiana

Independence Bank (Marengo), New Albany, Indiana

Indiana Lawrence Bank, North Manchester, Indiana

First National Bank, Portland, Indiana

Morris Plan Company of Terre Haute, Inc., Terre Haute, Indiana

Lake City Bank, Warsaw, Indiana

Peoples Loan and Trust Bank, Winchester, Indiana

Alden State Bank, Alden, Michigan

Hospital and Health Services Credit Union, Ann Arbor, Michigan

Home Federal Savings Bank, Detroit, Michigan

First National Bank of Michigan, East Lansing, Michigan

The State Bank of Fenton, Fenton, Michigan

Dort Federal Credit Union, Flint, Michigan

First Bank, Upper Michigan, NA, Gladstone, Michigan

United Bank of Michigan, Grand Rapids, Michigan

MFC First National Bank, Houghton, Michigan

MFC First National Bank, Iron Mountain, Michigan

MFC First National Bank, Iron River, Michigan

Lansing Automakers, Lansing, Michigan

North Country Bank and Trust, Manistique, Michigan

Farmers State Bank of Munith, Munith, Michigan

Royal Oak Community Credit Union, Royal Oak, Michigan

Federal Home Loan Bank of Chicago—District 7

Name/City/State

Anchor State Bank, Anchor, Illinois

State Bank of Auburn, Chatham, Illinois

First State Bank of Beardstown, Beardstown, Illinois

Germantown Trust & Savings Bank, Breese, Illinois

First National Bank, Bridgeport, Illinois

The Bank of Carbondale, Carbondale, Illinois

First National Bank and Trust Company, Carbondale, Illinois

Central, Illinois Bank, Champaign, Illinois

Chapin Bank, Chapin, Illinois

Highland Community Bank, Chicago, Illinois

Uptown National Bank of Chicago, Chicago, Illinois

Home State Bank/NA, Crystal Lake, Illinois

Farmers State Bank of Danforth, Danforth, Illinois

PlainsBank of Illinois, N.A., Des Plaines, Illinois

Amcore Bank, N.A., Rock River Valley, Dixon, Illinois

Durand State Bank, Durand, Illinois

First Community Bank, Elgin, Illinois

Standard Bank and Trust Company, Evergreen Park, Illinois

First Eagle National Bank, Hanover Park, Illinois

Bank of Calhoun County, Hardin, Illinois

CIB Bank, Rantoul, Illinois

The State Bank of Jerseyville, Jerseyville, Illinois

First National Bank, Lacon, Illinois

Farmers Bank of Liberty, Liberty, Illinois

Success National Bank, Lincolnshire, Illinois

Banterra Bank, Marion, Illinois

Bank of Maroa, Maroa, Illinois

First Mid-Illinois Bank and Trust NA, Mattoon, Illinois

First State Bank, Mendota, Illinois

National State Bank of Metropolis, Metropolis, Illinois

Citizens State Bank of Milford, Milford, Illinois

Brown County State Bank, Mount Sterling, Illinois

State Bank of Orion, Orion, Illinois

Citizens National Bank, Paris, Illinois

South Side Trust and Savings Bank, Peoria, Illinois

Bank of Pontiac, Pontiac, Illinois

Princeville State Bank, Princeville, Illinois

Farmers National Bank of Prophetstown, Prophetstown, Illinois

Lakeland Community Bank, Round Lake Heights, Illinois

Marion County Savings Bank, Salem, Illinois

First Illinois National Bank, Savanna, Illinois

Bank of Springfield, Springfield, Illinois

First Community State Bank, Staunton, Illinois

First National Bank in Taylorville, Taylorville, Illinois

First National Bank of Waterloo, Waterloo, Illinois

Williamsville State Bank and Trust, Williamsville, Illinois

Hinsbrook Bank and Trust, Willowbrook, Illinois

Polk County Bank, Balsam Lake, Wisconsin

The Baraboo National Bank, Baraboo, Wisconsin

Union Bank of Blair, Blair, Wisconsin

Great Midwest Bank, S.S.B., Brookfield, Wisconsin

Bank North, Crivitz, Wisconsin

MidAmerica Bank, Dodgeville, Wisconsin

First National Bank of Eagle River, Eagle River, Wisconsin

F&M Bank East Troy, East Troy, Wisconsin

Royal Bank, Elroy, Wisconsin

State Bank of Florence, Florence, Wisconsin

Bank of Galesville, Galesville, Wisconsin

First National Bank of Hartford, Hartford, Wisconsin

MidAmerica Bank Hudson, Hudson, Wisconsin

River Bank, Stoddard, Wisconsin

Coulee State Bank, La Crosse, Wisconsin

Citizens State Bank of Loyal, Loyal, Wisconsin

Bank of Luxemburg, Luxemburg, Wisconsin

First Business Bank, Madison, Wisconsin

Associated Bank Lakeshore, N.A., Manitowoc, Wisconsin

Columbia Savings and Loan Association, Milwaukee, Wisconsin

Citizens Bank of Mukwonago, Mukwonago, Wisconsin

First State Bank, New London, Wisconsin

Bank of New Richmond, New Richmond, Wisconsin

First Bank of Oconomowoc, Oconomowoc, Wisconsin

Community Bank of Oconto County, Oconto Falls, Wisconsin

River Valley State Bank, Rothschild, Wisconsin

Bank of Somerset, Somerset, Wisconsin

Farmers and Merchants State Bank, Stanley, Wisconsin

Community Bank, Superior, Wisconsin

Bank of Verona, Verona, Wisconsin

Marathon Savings Bank, Wausau, Wisconsin

Federal Home Loan Bank of Des Moines—District 8

Name/City/State

Liberty Bank, FSB, Arnolds Park, Iowa

Citizens Bank and Trust Company, Belle Plaine, Iowa

City State Bank, Central City, Iowa

Midwest Heritage Bank, FSB, Chariton, Iowa

Iowa State Bank, Des Moines, Iowa

Peoples Savings Bank, Elma, Iowa

Lee County Bank and Trust, N.A., Fort Madison, Iowa

Grinnell State Bank, Grinnell, Iowa

Security State Bank, Independence, Iowa

Community First Bank, Keosauqua, Iowa

Pleasantville State Bank, Pleasantville, Iowa

Great River Bank and Trust, Princeton, Iowa

First Federal Savings Bank of Siouxland, Sioux City, Iowa

Northeast Security Bank, Sumner, Iowa

Farmers and Merchants Savings Bank, Waukon, Iowa

Earlham Savings Bank, West Des Moines, Iowa

Farmers Savings Bank, West Union, Iowa

First Trust and Savings Bank, Wheatland, Iowa

North American State Bank, Belgrade, Minnesota

Bremer Bank, N.A., Brainerd, Minnesota

Stearns Bank Canby, Canby, Minnesota

First National Bank of Chaska, Chaska, Minnesota

Bremer Bank, N.A., Detroit Lakes, Minnesota

Republic Bank, Inc., Duluth, Minnesota

F & M Bank—Cannon Valley, Dundas, Minnesota

Bremer Bank, N.A., International Falls, Minnesota

Security State Bank of Lewiston, Lewiston, Minnesota

Minnwest Bank Luverne, Luverne, Minnesota

Premier Bank, Maplewood, Minnesota

Security State Bank of Marine, Marine on St. Croix, Minnesota

Bremer Bank, N.A., Marshall, Minnesota

Franklin National Bank of Minneapolis, Minneapolis, Minnesota

L.B. Community Bank & Trust, Minneapolis, Minnesota

Northeast Bank of Minneapolis, Minneapolis, Minnesota

First Minnetonka City Bank, Minnetonka, Minnesota

Minnwest Bank Central, Montevideo, Minnesota

Farmers State Bank of New London, New London, Minnesota

Woodlands National Bank, Onamia, Minnesota

United Community Bank, Perham, Minnesota

Farmers and Merchants State Bank of Pierz, Pierz, Minnesota

Security State Bank of Pine Island, Pine Island, Minnesota

First National Bank and Trust, Pipestone, Minnesota

State Bank of Richmond, Richmond, Minnesota

Minnesota First Credit and Savings, Inc., Rochester, Minnesota

Royalton State Bank, Royalton, Minnesota

Capital Bank, Saint Paul, Minnesota

BEACONBANK, Shorewood, Minnesota

Southview Bank, South St. Paul, Minnesota

Bremer Bank, N.A., South St. Paul, Minnesota

Farmers & Merchants State Bank of Springfield, Springfield, Minnesota

Liberty Savings Bank fsb, St. Cloud, Minnesota

Highland Banks, St. Michael, Minnesota

First Integrity Bank, Staples, Minnesota

Central Bank, Stillwater, Minnesota

Northern State Bank of Thief River Falls, Thief River Falls, Minnesota

Community Bank Vernon Center, Vernon Center, Minnesota

Security State Bank of Wells, Wells, Minnesota

State Bank of Wheaton, Wheaton, Minnesota

Bremer Bank, N.A., Willmar, Minnesota

Town and County State Bank of Winona, Winona, Minnesota

Bank of Advance, Advance, Missouri

Carroll County Savings and Loan Association, Carrollton, Missouri

Enterprise Bank, Clayton, Missouri

Bank of Crocker, Crocker, Missouri

First Midwest Bank of Dexter, Dexter, Missouri

Farmers and Merchants Bank of Hale, Hale, Missouri

Farmers and Commercial Bank, Holden, Missouri

Midwest Independent Bank, Jefferson City, Missouri

Exchange National Bank, Jefferson City, Missouri

Union Bank, Kansas City, Missouri

Bank Midwest N.A., Kansas City, Missouri

Bannister Bank and Trust, Kansas City, Missouri

Country Club Bank, n.a., Kansas City, Missouri

First Community Bank of Johnson County, Knob Knoster, Missouri

Madison-Hunnewell Bank, Madison, Missouri

Martinsburg Bank and Trust, Mexico, Missouri

Central Bank of Lake of the Ozarks, Osage Beach, Missouri

First Midwest Bank of Poplar Bluff, Poplar Bluff, Missouri

First Community Bank, Missouri, Poplar Bluff, Missouri

Citizens Bank of Princeton, Princeton, Missouri

Bank of Rothville, Rothville, Missouri

Anheuser-Busch Employees' Credit Union, St. Louis, Missouri

Citizens National Bank of Greater St. Louis, St. Louis, Missouri

Jefferson Bank and Trust Company, St. Louis, Missouri

St. Louis Postal Credit Union, St. Louis, Missouri

First Community National Bank, Steelville, Missouri

American Sterling National Bank, Sugar Creek, Missouri

Bank of Sullivan, Sullivan, Missouri

Carter County State Bank, Van Buren, Missouri

West Plains Bank, West Plains, Missouri

Bank of Weston, Weston, Missouri

Bank Center First, Bismarck, North Dakota

Bank of North Dakota, Bismarck, North Dakota

CountryBank, USA, Cando, North Dakota

Security First Bank of Oliver County, Center, North Dakota

Citizens State Bank, Grafton-Petersburg Grafton, North Dakota

Bremer Bank, N.A., Minot, North Dakota

Security State Bank of North Dakota, New Salem, North Dakota

American State Bank & Trust Co. of Williston, Williston, North Dakota

Hand County State Bank, Miller, South Dakota

First National Bank, Pierre, South Dakota

Rushmore Bank & Trust, Rapid City, South Dakota

The First National Bank in Sioux Falls, Sioux Falls South Dakota

Marquette Bank South Dakota, N.A., Sioux Falls, South Dakota

Day County Bank, Webster, South Dakota

Federal Home Loan Bank of Dallas—District 9

Name/City/State

Union Bank of Benton, Benton, Arkansas

First National Bank, Berryville, Arkansas

First Community Bank, P.A., Conway, Arkansas

First National Bank of De Queen, De Queen, Arkansas

First National Bank, DeWitt, Arkansas

Bank of England, England, Arkansas

First National Bank, Glenwood, Arkansas

First National Bank of Green Forest, Green Forest, Arkansas

Helena National Bank, Helena, Arkansas

Bank of North Arkansas, Melbourne, Arkansas

Commercial Bank and Trust Company, Monticello, Arkansas

First National Bank and Trust Company, Mountain Home, Arkansas

Perry County State Bank, Perryville, Arkansas

Simmons First National Bank, Pine Bluff, Arkansas

Bank of Prescott, Prescott, Arkansas

Merchants and Planters Bank, Sparkman, Arkansas

First National Bank, Beinville Parrish, Arcadia, Louisiana

Louisiana Bank and Trust Company, Baton Rouge, Louisiana

Citizens National Bank of Bossier City, Bossier City, Louisiana

Parish National Bank, Covington, Louisiana

Catahoula—LaSalle Bank, Jonesville, Louisiana

Metro Bank, Kenner, Louisiana

Hibernia National Bank, New Orleans, Louisiana

Guaranty Bank and Trust Company, New Roads, Louisiana

Tensas State Bank, Newellton, Louisiana

Patterson State Bank, Patterson, Louisiana

Iberville Trust and Savings Bank, Plaquemine, Louisiana

Rayne State Bank and Trust Company, Rayne, Louisiana

Teche Bank and Trust Company, St. Martinville, Louisiana

Bank of Sunset and Trust Company, Sunset, Louisiana

Washington State Bank, Washington, Louisiana

Citizens Bank, Columbia, Mississippi

Bank of Kilmichael, Kilmichael, Mississippi

Peoples Bank, Mendenhall, Mississippi

Bank of Morton, Morton, Mississippi

Merchants and Planters Bank, Raymond, Mississippi

First National Bank of Wiggins, Wiggins, Mississippi

Valley National Bank, Espanola, New Mexico

Lea County State Bank, Hobbs, New Mexico

Bank of the Rio Grande, Las Cruces, New Mexico

White Sands Federal Credit Union, Las Cruces, New Mexico

Bank of the Southwest, Roswell, New Mexico

Bank of Texas, Austin, Texas

Austin County State Bank, Bellville, Texas

The First National Bank of Bryan, Bryan, Texas

First Bank and Trust, Childress, Texas

Founders National Bank, Dallas, Texas

Norwest Bank El Paso, N.A., El Paso, Texas

Southwest Bank of Fort Worth, Fort Worth, Texas

Hometown Bank, Galveston, Texas

Gruver State Bank, Gruver, Texas

The First State Bank, Hawkins, Texas

Northwest Bank, N.A., Houston, Texas

Hull State Bank, Hull, Texas

Industry State Bank, Industry, Texas

Fredonia State Bank, Nacogdoches, Texas

The First National Bank of Refugio, Refugio, Texas

Federal Home Loan Bank of Topeka—District 10

Name/City/State

Cheyenne Mountain Bank, Colorado Springs, Colorado

Bank of Cherry Creek, N.A., Denver, Colorado

FirstBank of Cherry Creek, Denver, Colorado

FirstBank of Denver, Denver, Colorado

Union Bank and Trust, Denver, Colorado

Mesa National Bank, Grand Junction, Colorado

FirstBank of Colorado, N.A., Lakewood, Colorado

FirstBank of South Jeffco, Littleton, Colorado

Peoples National Bank, Monument, Colorado

Labette County State Bank, Altamont, Kansas

Union State Bank, Arkansas City, Kansas

The Baxter State Bank, Baxter Springs, Kansas

Community Bank, Chapman, Kansas

First National Bank, Derby, Kansas

Pony Express Community Bank, Ellwood, Kansas

Citizens State Bank, Gridley, Kansas

Citizens State Bank and Trust Company, Hiawatha, Kansas

First National Bank of Hutchinson, Hutchinson, Kansas

Brotherhood Bank and Trust Company, Kansas City, Kansas

Gold Bank, Leawood, Kansas

Security National Bank, Manhattan, Kansas

Peoples Bank and Trust Company, McPherson, Kansas

First Neodesha Bank, Neodesha, Kansas

Hillcrest Bank, Olathe, Kansas

Grant County Bank, Ulysses, Kansas

Union State Bank, Uniontown, Kansas

Corner Bank, N.A., Winfield, Kansas

Battle Creek State Bank, Battle Creek, Nebraska

First National Bank, Beemer, Nebraska

Columbus Bank and Trust Company, Columbus, Nebraska

Fremont National Bank and Trust Company, Fremont, Nebraska

Thayer County Bank, Hebron, Nebraska

First National Bank and Trust of Kearney, Kearney, Nebraska

Union Bank and Trust Company, Lincoln, Nebraska

McCook National Bank, McCook, Nebraska

Adams Bank and Trust, Ogallala, Nebraska

First Westroads Bank, Inc., Omaha, Nebraska

Omaha State Bank, Omaha, Nebraska

Metro Health Services Federal Credit Union, Omaha, Nebraska

Mutual First Federal Credit Union, Omaha, Nebraska

First National Bank in Ord, Ord, Nebraska

First National Bank, Schuyler, Nebraska

Pinnacle Bank, N.A., Shelby, Nebraska

Stanton National Bank, Stanton, Nebraska

Farmers and Merchants State Bank of Wayne, Wayne, Nebraska

American State Bank, Broken Bow, Oklahoma

Oklahoma National Bank of Duncan, Duncan, Oklahoma

The First National Bank in Durant, Durant, Oklahoma

First United Bank and Trust Company, Durant, Oklahoma

Central Nationall Bank & Trust Company of Enid, Enid, Oklahoma

Farmers and Merchants National Bank, Fairview, Oklahoma

Security First National Bank, Hugo, Oklahoma

Landmark Bank Company, N.A., Madill, Oklahoma

First Fidelity Bank, Oklahoma City, Oklahoma

Lincoln National Bank, Oklahoma City, Oklahoma

Southwestern Bank and Trust Company, Oklahoma City, Oklahoma

Pauls Valley National Bank, Pauls Valley, Oklahoma

Home National Bank, Ponca City, Oklahoma

Pioneer Bank and Trust, Ponca City, Oklahoma

First United Bank, Sapulpa, Oklahoma

First State Bank in Temple, Temple, Oklahoma

Citizens Bank of Tulsa, Tulsa, Oklahoma

First Farmers National Bank, Waurika, Oklahoma

Federal Home Loan Bank of San Francisco—District 11

Name/City/State

Johnson Bank, Phoenix, Arizona

Norwest Bank Arizona, N.A., Phoenix, Arizona

City National Bank, Beverly Hills, California

Gold Country National Bank, Brownsville, California

North State National Bank, Chico, California

North County Bank, Escondido, California

Imperial Capital Bank, Glendale, California

Foothill Independent Bank, Glendora, California

The Bank of Hemet, Hemet, California

First Fidelity Thrift and Loan Association, Irvine, California

Hewlett Packard Employees FCU, Palo Alto, California

Mid Valley Bank, Red Bluff, California

North Valley Bank, Redding, California

Mechanics Bank of Richmond, Richmond, California

Roseville First National Bank, Roseville, California

Trans Pacific National Bank, San Francisco, California

Bank of the West, San Francisco, California

Montecito Bank and Trust, Santa Barbara, California

Bank of America Community Development Bank, Walnut Creek, California

BYL Bank Group, Yorba Linda, California

Nevada State Bank, Las Vegas, Nevada

First Bank of Beverly Hills, FSB, Portland, Oregon

Federal Home Loan Bank of Seattle—District 12

Name/City/State

Bank of Hawaii, Honolulu, Hawaii

D.L. Evans Bank, Burley, Idaho

Citizens Bank and Trust Company, Big Timber, Montana

Bank of Bridger, Bridger, Montana

Citizens State Bank of Choteau, Choteau, Montana

State Bank and Trust Company, Dillon, Montana

First National Bank of Fairfield, Fairfield, Montana

Fairview Bank, Fairview, Montana

First Security Bank of Malta, Malta, Montana

First Citizens Bank of Polson, Polson, Montana

First State Bank of Thompson Falls, Thompson Falls, Montana

Ruby Valley National Bank, Twin Bridges, Montana

First National Bank of the Rockies, White Sulphur Spring, Montana

Whitefish Credit Union, Whitefish, Montana

O.S.U. Federal Credit Union, Corvallis, Oregon

The Merchants Bank, Gresham, Oregon

Community Bank, Joseph, Oregon

Valley of the Rogue Bank, Rogue River, Oregon

State Employees Credit Union, Salem, Oregon

Barnes Banking Company, Kaysville, Utah

Cache Valley Bank, Logan, Utah

Inter Bank, Duvall, Washington

Peoples Bank, Lynden, Washington

Pend Oreille Bank, Newport, Washington

Inland Northwest Bank, Spokane, Washington

Telco Community Credit Union, Tacoma, Washington

Clark County School Employees Credit Union, Vancouver, Washington

Towne Bank, Woodinville, Washington

Norwest Bank Wyoming, N.A., Casper, Wyoming

Shosone First Bank, Cody, Wyoming

To encourage the submission of public comments on the community support performance of Bank members, on or before April 28, 2000, each Bank will notify its Advisory Council and nonprofit housing developers, community groups, and other interested parties in its district of the members selected for community support review in the 2000-01 first quarter review cycle. 12 CFR 944.2(b)(2)(ii). In reviewing a member for community support compliance, the Finance Board will consider any public comments it has received concerning the member. 12 CFR 944.2(d). To ensure consideration by the Finance Board, comments concerning the community support performance of members selected for the 2000-01 first quarter review cycle must be delivered to the Finance Board on or before the May 29, 2000 deadline for submission of Community Support Statements.

Dated: April 7, 2000.
By the Federal Housing Finance Board.
William W. Ginsberg,
Managing Director.

[FR Doc. 00-9137 Filed 4-13-00; 8:45 am]

BILLING CODE 6725-01-P